DEPARTMENT OF HEALTH AND HUMAN SERVICES

National Institutes of Health

National Library of Medicine; Amended Notice of Meeting

Notice is hereby given of a change in the meeting of the National Library of Medicine Special Emphasis Panel, February 25, 2016, 12:00 p.m. to 04:00 p.m., National Library of Medicine, 6705 Rockledge Drive, Suite 301, Bethesda, MD 20817 which was published in the Federal Register on January 26, 2016 (81 FR 4319).

The meeting of the Special Emphasis Panel will be held on March 25, 2016 instead of February 25, 2016, at 12:00 p.m. and will end at 4:00 p.m. The meeting is closed to the public.

Dated: February 2, 2016.
Michelle Trout,
Program Analyst, Office of Federal Advisory Committee Policy.

[FR Doc. 2016-02315 Filed 2-5-16; 8:45 am]

BILLING CODE 4140-01-P